DEPARTMENT OF LABOR

Employment and Training Administration

[TA-W-73,233]

The Berry Company LLC, a Subsidiary of Local Insight Media Holdings, Inc., Formally Known as Local Insight Yellow Pages Including On-Site Leased Workers From Kelly Services, Randstad and Manpower Hudson, Ohio; Amended Certification Regarding Eligibility To Apply for Worker Adjustment Assistance

In accordance with Section 223 of the Trade Act of 1974, as amended (“Act”), 19 U.S.C. 2273, the Department of Labor issued a Certification of Eligibility to Apply for Worker Adjustment Assistance on April 27, 2010, applicable to workers of The Berry Company LLC, a subsidiary of Local Insight Media Holdings, Inc., formally known as Local Insight Yellow Pages, including on-site leased workers from Kelly Services and Randstad, Hudson, Ohio. The notice was published in the Federal Register on May 28, 2010 (75 FR 30071).

At the request of the petitioner, the Department reviewed the certification for workers of the subject firm. The workers are engaged in telephone directory advertising and Internet advertising services.

The company reports that workers leased from Manpower were employed on-site at the Hudson, Ohio, location of The Berry Company, a subsidiary of Local Insight Media Holdings, Inc., formally known as Local Insight Yellow Pages. The Department has determined that these workers were sufficiently under the control of the subject firm to be considered leased workers.

Based on these findings, the Department is amending this certification to include workers leased from Manpower, working on-site at the Hudson, Ohio, location of The Berry Company, a subsidiary of Local Insight Media Holdings, Inc., formally known as Local Insight Yellow Pages.

The amended notice applicable to TA-W-73,233 is hereby issued as follows:

All workers The Berry Company, a subsidiary of Local Insight Media Holdings, Inc., formally known as Local Insight Yellow Pages, including on-site leased workers from Kelly Services, Randstad and Manpower, Hudson, Ohio, who became totally or partially separated from employment on or after January 7, 2009, through April 27, 2012, and all workers in the group threatened with total or partial separation from employment on the date of certification through two years from the date of certification, are eligible to apply for adjustment assistance under Chapter 2 of Title II of the Trade Act of 1974, as amended.

Signed at Washington, DC, this 10th day of June 2010.
Elliott S. Kushner,
Certifying Officer, Division of Trade Adjustment Assistance.

[FR Doc. 2010-16024 Filed 6-30-10; 8:45 am]

BILLING CODE 4510-FN-P